DEPARTMENT OF COMMERCE

International Trade Administration

[A-533-877]

Stainless Steel Flanges From India: Final Results of Antidumping Duty Administrative Review; 2021-2022

AGENCY: Enforcement and Compliance, International Trade Administration, Department of Commerce.

SUMMARY: The U.S. Department of Commerce (Commerce) finds that producers/exporters of stainless steel flanges (flanges) from India did not make sales of subject merchandise in the United States at prices below normal value (NV) during the period of review (POR) October 1, 2021, through September 30, 2022.

DATES: Applicable March 11, 2024.

FOR FURTHER INFORMATION CONTACT: Benito Ballesteros or Seth Brown, AD/CVD Operations, Office IX, Enforcement and Compliance, International Trade Administration, U.S. Department of Commerce, 1401 Constitution Avenue NW, Washington, DC 20230; telephone: (202) 482-7425 or (202) 482-0029, respectively.

SUPPLEMENTARY INFORMATION:

Background

Commerce selected two companies, Chandan Steel Limited (Chandan) and Kisaan Die Tech Private Limited (KDT) as the mandatory respondents, in this review. On November 6, 2023, Commerce published the Preliminary Results and invited interested parties to comment.¹ In December 2023, we received case briefs from Core Pipe Products, Inc. (the petitioner) and rebuttal briefs from Chandan and KDT.² For a complete description of the events that occurred since the Preliminary Results, see the Issues and Decision Memorandum.³ Commerce conducted this administrative review in accordance with section 751 of the Tariff Act of 1930, as amended (the Act).

¹ See Stainless Steel Flanges from India: Preliminary Results of Antidumping Duty Administrative Review and Partial Rescission; 2021-2022, 88 FR 76176 (November 6, 2023) (Preliminary Results), and accompanying Preliminary Decision Memorandum (PDM).

² See Petitioner's Letters, “Petitioner's Case Brief for Chandan,” dated December 6, 2023; and “Petitioner's Case Brief for KDT,” dated December 6, 2023; see also Chandan's Letter, “Submission of rebuttal brief in response to petitioner's case brief,” dated December 18, 2023; and KDT's Letter, “Rebuttal to Petitioners Pre-Preliminary Comments,” dated December 18, 2023.

³ See Memorandum, “Issues and Decision Memorandum for the Final Results of the Administrative Review of the Antidumping Duty Order on Stainless Steel Flanges from India; 2021-2022,” dated concurrently with, and hereby adopted by, this notice (Issues and Decision Memorandum).

Scope of the Order

The merchandise covered by the order is flanges from India. For a complete description of the scope of the order, see the Preliminary Results PDM.

Analysis of Comments Received

All issues raised in the case and rebuttal briefs are addressed in the Issues and Decision Memorandum. A list of the issues that parties raised, and to which we responded in the Issues and Decision Memorandum, is attached to this notice in Appendix I. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

We made no changes to the Preliminary Results based on comments from interested parties.

Final Results of Review

The final estimated weighted-average dumping margins are listed below for the period October 1, 2021, through September 30, 2022:

⁴ See appendix II for the list of exporters and/or producers not selected for individual examination.

Exporter/producer | Weighted- average dumping margin (percent)
Chandan Steel Limited | 0.00
Kisaan Die Tech Private Limited | 0.00
Companies Not Selected for Individual Examination ⁴ | 0.00

Disclosure

Normally, Commerce will disclose to the parties in a proceeding the calculations performed in connection with the final results of review within five days of any public announcement or, if there is no public announcement, within five days of the date of publication of the notice of final results in the Federal Register, in accordance with 19 CFR 351.224(b). However, because we have made no changes to the Preliminary Results, there are no new calculations to disclose.

Assessment Rates

Pursuant to section 751(a)(2)(C) of the Act and 19 CFR 351.212(b)(1), Commerce will determine, and U.S. Customs and Border Protection (CBP) shall assess, antidumping duties on all appropriate entries of subject merchandise in accordance with the final results of this review. Where a respondent's weighted-average dumping margin is either zero or de minimis (i.e., less than 0.5 percent), we will instruct CBP to liquidate the appropriate entries without regard to antidumping duties. Accordingly, because Chandan's and KDT's weighted-average dumping margins are zero percent, we will instruct CBP to liquidate the appropriate entries without regard to antidumping duties. Consistent with Commerce's assessment practice, for entries of subject merchandise during the POR produced by Chandan or KDT for which these companies did not know the merchandise was destined for the United States, we will instruct CBP to liquidate unreviewed entries at the all-others rate if there is no rate for the intermediate company(ies) involved in the transaction.⁵

⁵ For a full discussion of this practice, see Antidumping and Countervailing Duty Proceedings: Assessment of Antidumping Duties, 68 FR 23954 (May 6, 2003).

For the companies which were not selected for individual examination, we will also instruct CBP to liquidate the appropriate entries without regard to antidumping duties.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided for by section 751(a)(2) of the Act: (1) the cash deposit rate for the companies listed above will be equal to the weighted-average dumping margin established in the final results of this review, except if the rate is de minimis (i.e., less than 0.50 percent), in which case the cash deposit rate will be zero; (2) for previously reviewed or investigated companies not covered by this review, the cash deposit rate will continue to be the company-specific rate published for the most recently-completed segment of this proceeding in which they were examined; (3) if the exporter is not a firm covered in this review, a prior review, or the less-than-fair value investigation, but the producer is, the cash deposit rate will be the rate established for the most recently-completed segment of this proceeding for the producer of the merchandise; and (4) the cash deposit rate for all other producers or exporters will continue to be 7.00 percent, the all-others rate established in the Amended Final Determination.⁶ These cash deposit requirements, when imposed, shall remain in effect until further notice.

⁶ See Stainless Steel Flanges from India: Notice of Court Decision Not in Harmony with the Final Determination of Antidumping Investigation; Notice of Amended Final Determination, 86 FR 50325 (September 8, 2021) (Amended Final Determination).

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing this notice in accordance with sections 751(a)(1) and 777(i) of the Act, and 19 CFR 351.221(b)(5).

Dated: March 4, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Discussion of the Issues

Comment 1: Whether to Apply Adverse Facts Available (AFA) to Chandan

Comment 2: Whether to Include KDT's Outside Tolling Costs

IV. Recommendation

Appendix II

List of Companies Not Selected for Individual Examination

1. Balkrishna Steel Forge Pvt. Ltd.

2. BFN Forgings Private Limited; Bebitz Flanges Works Private Limited; Fanschen werk Bebitz GmbH; Viraj Alloys, Ltd.; Viraj Forgings, Ltd.; Viraj Impoexpo, Ltd.; and Viraj Profiles Limited ⁷

⁷ Commerce has previously found BFN Forgings Private Limited to be part of a collapsed entity. See, e.g., Stainless Steel Flanges from India: Final Affirmative Determination of Sales at Less Than Fair Value and Final Affirmative Critical Circumstance Determination, 83 FR 40745 (August 16, 2018). The companies which are part of this collapsed entity are listed above.

3. Echjay Forgings Private Limited

4. Fivebros Forgings Pvt. Ltd.⁸

⁸ We incorrectly listed this company as “Fivebros Pvt Ltd.” in the Initiation Notice and as “Fivebros Forging Pvt Ltd.” in the Preliminary Results. See Initiation of Antidumping and Countervailing Duty Administrative Reviews, 87 FR 74404 (December 5, 2022); and Initiation of Antidumping and Countervailing Duty Administrative Reviews, 88 FR 7060 (February 2, 2023) (collectively, Initiation Notice); and Preliminary Results, 88 FR at 76178.

5. Goodluck India Limited

6. Hilton Metal Forging Limited

7. Jai Auto Pvt. Ltd.

8. Jay Jagdamba Forgings Pvt Ltd.

9. Jay Jagdamba Ltd.

10. Jay Jagdamba Profile Pvt Ltd.

11. Pradeep Metals Limited

12. Shree Jay Jagdamba Flanges Pvt. Ltd.

[FR Doc. 2024-05065 Filed 3-8-24; 8:45 am]

BILLING CODE 3510-DS-P